OFFICE OF THE UNITED STATES TRADE REPRESENTATIVE

Notice of Invitation for Public Comment From FTAA Committee of Government Representatives on the Participation of Civil Society

AGENCY: Office of the United States Trade Representative (USTR).

ACTION: Notice.

SUMMARY: The Office of the United States Trade Representative is providing notification that the Committee of Government Representatives on the Participation of Civil Society (Committee), established by the 34 countries participating in the negotiations for a Free Trade Area of the Americas (FTAA), has issued an invitation for public comment on trade matters related to the FTAA process.

FOR FURTHER INFORMATION: The invitation for public comment and a cover sheet identifying information to be included with submissions to the Committee have been posted on the official FTAA website (www.ftaa-alca.org) and are reproduced below. The FTAA website also contains background information regarding the FTAA process, including the Committee's report of November 1999 to the FTAA Trade Ministers and the Toronto and San Jose Ministerial Declarations. Any questions concerning the FTAA negotiations should be addressed to the agency's Office of Western Hemisphere Affairs at (202) 395-5190.

SUPPLEMENTARY INFORMATION:

1. Background on the FTAA Negotiations

Miami Summit of the Americas. On December 11, 1994, President Clinton and the 33 other democratically-elected leaders in the Western Hemisphere met in Miami, Florida for the first Summit of the Americas. They agreed to conclude negotiations on a Free Trade Area of the Americas (FTAA) no later than the year 2005 and to achieve concrete progress toward that objective by the end of the century. The Miami Declaration of Principles and Plan of Action announced the agreements reached by the leaders at the first Summit of the Americas. With respect to the FTAA, the Plan of Action states in part:

We will strive to maximize market openness through high levels of discipline as we build upon existing agreements in the Hemisphere. We will also strive for balanced and comprehensive agreements, including among others: Tariffs and non-tariff barriers affecting trade in goods and services; agriculture; subsidies; investment; intellectual property rights; government procurement; technical barriers to trade; safeguards; rules of origin; antidumping and countervailing duties; sanitary and phytosanitary standards and procedures; dispute resolution; and competition policy.

The Plan of Action also states:

Free trade and increased economic integration are key factors for sustainable development. This will be furthered as we strive to make our trade liberalization and environmental policies mutually supportive, taking into account efforts undertaken by the GATT/WTO and other international organizations. As economic integration in the Hemisphere proceeds, we will further secure the observance and promotion of worker rights, as defined by appropriate international conventions. We will avoid disguised restrictions on trade, in accordance with the GATT/WTO and other international obligations.

San Jose Ministerial. The 34 Western Hemisphere ministers responsible for trade met on March 19, 1998 in San Jose, Costa Rica. At the San Jose meeting, the trade ministers recommended that the Western Hemisphere leaders initiate the negotiations and provided recommendations on the structure, objectives, principles, and venues of the negotiations. The trade ministers proposed the creation of nine negotiating groups and three non-negotiating committees and groups, including the Committee of Government Representatives on the Participation of Civil Society. They also established the Trade Negotiations Committee (TNC) to guide the work of the negotiating groups, to decide on the overall architecture of the FTAA agreement and to address institutional issues.

Trade ministers also reiterated that the FTAA negotiations will take into account the broad social and economic agenda contained in the Miami Declaration of Principles and Plan of Action with a view to “contributing to raising living standards, to improving the working conditions of all people in the Americas and to better protecting the environment.”

The San Jose Ministerial Declaration, as well as the Miami Declaration, can be accessed through the official FTAA website (www.ftaa-alca.org).

Santiago Summit of the Americas. On April 18-19, 1998, President Clinton and his 33 counterparts initiated the Free Trade Area of the Americas negotiations at the Summit of the Americas meeting in Santiago, Chile. The leaders agreed to the general framework proposed by the 34 trade ministers, which included the establishment of nine negotiating groups to be guided by the principles and objectives agreed by the ministers in San Jose.

The nine negotiating groups established by the FTAA countries are responsible for the following areas of the negotiations: (1) Market access; (2) investment; (3) services; (4) government procurement; (5) dispute settlement; (6) agriculture; (7) intellectual property rights; (8) subsidies, antidumping and countervailing duties; and (9) competition policy. In addition to the nine negotiating groups, three non-negotiating committees and groups were established. They are: (1) The Consultative Group on Smaller Economies; (2) the Committee of Government Representatives on the Participation of Civil Society; and (3) the Joint Government-Private Sector Committee of Experts on Electronic Commerce. The negotiating groups and non-negotiating committees and groups began meeting in September 1998.

Toronto Ministerial Meeting. On November 3-4, 1999, the FTAA ministers met in Toronto to review the progress made by the negotiating groups during the first phase of the negotiations and to determine the next steps to be taken in the FTAA process. The ministers in Toronto expressed approval of the progress made by the negotiating groups and directed them to begin preparing draft texts of their respective chapter, to be completed by the next meeting of FTAA ministers in April 2001. The Toronto Declaration has been posted on the official FTAA website (www.ftaa-alca.org).

2. FTAA Committee of Government Representatives on the Participation of Civil Society

At the 1998 meeting in San Jose, the trade ministers jointly recognized and welcomed the interests and concerns expressed by a broad spectrum of interested non-governmental parties in the hemisphere and encouraged these and other parties to provide their views on trade matters related to the FTAA negotiations. In order to facilitate this process, the ministers agreed to establish the Committee of Government Representatives on the Participation of Civil Society. The TPSC published a Federal Register notice on July 29, 1998 (63 FR 40579) requesting comments on the operation of the Committee, which was mandated to receive, analyze, and report on the full range of comments received from civil society from throughout the hemisphere. At its first meeting in October 1998, the Committee approved an open invitation soliciting views from the hemisphere's public. The open invitation was placed on the FTAA website and countries agreed to use national mechanisms to disseminate the invitation further. In the United States, the invitation was disseminated through a variety of means, including press releases, letters to advisory committees and public meetings.

Prior to the Toronto Ministerial Meeting, the Committee prepared a report for the Ministers describing the submissions it received from the public. This report has been published on the official FTAA website (www.ftaa-alca.org.). Executive summaries of the submissions have also been published on the Department of State website (www.state.gov/www/issues/economic/current_issues.html).

3. Invitation for Public Comments

The Committee has issued a second invitation to the public for comments on the FTAA process. The U.S. Government encourages the widest participation in this public comment process and will ensure that U.S. negotiators review all submissions for consideration in the ongoing FTAA negotiations. The invitation is an important part of our effort to ensure that the views of the public receive consideration in the FTAA negotiating process. The comments received by the Committee will form the basis for the Committee's next report to the FTAA Trade Ministers.

The invitation has been posted on the official FTAA website (www.ftaa-alca.org), along with a cover sheet detailing information that must be included with all submissions to the Committee. Those persons wishing to submit comments must comply with the requirements listed in the invitation, particularly those contained in paragraph 4, and include a completed cover sheet with each submission. Both the invitation and the cover sheet are reproduced below. The deadline for receipt of comments is September 30, 2000.

Peter F. Allgeier,
Associate United States Trade Representative for the Western Hemisphere.

Open Invitation to Civil Society in FTAA Participating Countries

1. During the Fifth Trade Ministerial Meeting held in Toronto on November 4, 1999, the Ministers Responsible for Trade of the Hemisphere welcomed the report of the Committee of Government Representatives on the Participation of Civil Society, which presents a range of views received from individuals and organizations in the hemisphere. The Trade Ministers reaffirmed their commitment to the principle of transparency in the negotiating process and to conducting their negotiations in such a manner as to broaden public understanding and support for the FTAA.

2. They stressed the fact that the Committee was established as a mechanism to fulfill this commitment and to obtain ongoing input from Civil Society on trade matters relevant to the FTAA through written submissions, using the San Jose Declaration as the frame of reference. They also requested that the Committee present a report outlining the full range of reviews received for their consideration at the next Ministerial meeting scheduled to be held in Buenos Aires in April 2001.

3. The Committee acknowledges the submissions received in response to its first “Open Invitation to Civil Society” and thanks all those organizations and individuals who took the time and effort to contribute their views. In consideration of its mandate, and in order to obtain ongoing input from civil society on trade matters relevant to the FTAA, using the San Jose Declaration as the frame of reference, the Committee extends this invitation, as of April 10, to Civil Society to express their views in writing, by mail, fax, e-mail or courier.

4. In order to be considered, each submission must:

• Identify the person(s) and/or organization(s), with their address, that is/are presenting the point of view.

• Refer to the trade matters related to the FTAA process, using the Ministerial Declarations of San Jose and Toronto as the frame of reference;

• Be in concise written form, in one of the official FTAA languages (Spanish, English, French, Portuguese);

• Be prefaced by the information requested in the cover sheet attached to this document and that is available on the FTAA web site (http://www.ftaa-alca.org);

• Include an executive summary of no more than two pages, including reference to the trade matters it refers to and the way the views contribute to the FTAA process, as stipulated in the Ministerial Declaration of San Jose;

• Be sent directly to the Chair of the Committee of Government Representatives on the Participation of Civil Society, at the following address: c/o Tripartite Committee (REf. Civil Society), Economic Commission for Latin American and the Caribbean (ECLAC), 1825 K Street NW, Suite 1120, Washington, D.C. 20006, Fax: (202) 296-0826, e-mail: socs@eclac.org.

5. The Commission will prepare its next report to Ministers on the basis of submissions determined to confirm with paragraph 4 of this invitation and that are received up to September 30, 2000.

FTAA—COMMITTEE OF GOVERNMENT REPRESENTATIVES ON THE PARTICIPATION OF CIVIL SOCIETY

Cover Sheet

Names(s) |
Address |
Organization(s) (if applicable) |
Country(ies)/Region(s) |

Number of Pages |  | Language |

ISSUES ADDRESSED (Check all that apply)
Agriculture |  | Subsidies, Antidumping and Countervailing Duties |
Competition Policy |  | Civil Society |
Dispute Settlement |  | Electronic Commerce |
Government Procurement |  | Smaller Economies |
Intellectual Property Rights |  | The FTAA Process |
Investment |  | Other:
Market Access |  |
Services |  |
Executive Summary—2 pages maximum—(see Open Invitation):

[FR Doc. 00-15660 Filed 6-21-00; 8:45 am]

BILLING CODE 3901-01-M